DEPARTMENT OF THE INTERIOR

Bureau of Land Management

(AZ-910-0777-26-241A)

State of Arizona Resource Advisory Council Meeting

AGENCY: Bureau of Land Management, Interior.

ACTION: Arizona Resource Advisory Council Meeting notice.

SUMMARY: This notice announces a meeting of the Arizona Resource Advisory Council (RAC). The meeting will be held on December 6, in Phoenix, Arizona. The meeting will be held at the BLM National Training Center, 9828 North 31st Avenue, Phoenix, Arizona. It will begin at 9:00 a.m and will conclude at approximately 4:00 p.m. The Bureau of Land Management is publishing this notice without 15 days public notice in order to avoid any additional delays. The agenda items to be covered include review of the July 23-24, 2001, meeting minutes; New RAC Member Introductions; BLM State Director's Update on legislation, regulations and statewide planning efforts; Briefing on the Programmatic Environmental Impact Statement on Conservation and Restoration Treatments; Updates on the National Off-Highway Vehicle Strategy, Draft Las Cienegas Resource Management Plan and Environmental Impact Statement; and Statewide Planning Schedule; RAC Discussion on National Landscape Conservation System Strategy; Update Proposed Field Office Rangeland Resource Teams; Reports from BLM Field Office Managers; Reports by the Standards and Guidelines, Recreation and Public Relations, Wild Horse and Burro Working Groups; Reports from RAC members; and Discussion of future meetings. A public comment period will be provided at 11:30 a.m. on December 6, 2001, for any interested publics who wish to address the Council.

FOR FURTHER INFORMATION CONTACT: Deborah Stevens, Bureau of Land Management, Arizona State Office, 222 North Central Avenue, Phoenix, Arizona 85004-2203, (602) 417-9215.

Carl Rountree,
Arizona Associate State Director.

[FR Doc. 01-29347 Filed 11-21-01; 8:45 am]

BILLING CODE 4310-32-P